FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR part 515).

Persons knowing of any reason why any of the following applicants should not receive a license are requested to contact the Office of Transportation Intermediaries, Federal Maritime Commission, Washington, DC 20573.

Non-Vessel-Operating Common Carrier Ocean Transportation Intermediary Applicants

Consolidated Powers Ltd., Cargo Building 80 JFK International Airport, #202, Jamaica, NY 11430. Officers: Michael Bodack, President (Qualifying Individual), Martin Weisblatt, Vice President

KS Logix, Inc., 500 Carson Plaza Drive, Suite #118, Carson, CA 90746. Officers: Ok Bae Park, CFO (Qualifying Individual), Kil Soo Hur, President.

Kinitetsu Flexipak, Inc., 3414 Yale Street, Houston, TX 77018. Officer: Roger Goose, President (Qualifying Individual)

SITC Logistics Co., Ltd., 754 S. Glasgow Avenue, Inglewood, CA 90301. Officers: Jia-Ming Shi, CEO (Qualifying Individual), Danny Chen, Director

Non-Vessel-Operating Common Carrier and Ocean Freight Forwarder Transportation Intermediary Applicants

Multimodal International Shipping, Inc. d/b/a Masterpiece Ocean Freight Ltd., 185 S. Douglas Street, 1st Floor, El Segundo, CA 90245. Officers: William Robert Wratschko, Secretary (Qualifying Individual), David R. Epstein, President

Courtney International Forwarding Inc., 372 Doughty Blvd., Inwood, NY 11096. Officers: Ruth Cardace, Export Manager (Qualifying Individual), Trevor R. Hume, President

Rahebo International Freight Systems Corp., 8232 N.W. 68th Street, Miami, FL 33166. Officers: Alejandro Orsini, Director (Qualifying Individual), Juan Vicente Ramirez, President

Inter-Trade Liner Shipping Co., Inc., 451 E. Carson Plaza Dr., #201, Carson, CA 90746. Officer: Kyung Hwan Oh, President (Qualifying Individual)

Int'l Network Trans., Inc., 9841 Airport Blvd., Suite #1002, Los Angeles, CA 90045. Officer: Hwa H. Lee, President (Qualifying Individual)

HR Services, Inc. d/b/a HR Shipping Services, 211 North Union Street, Suite 100, Alexandria, VA 22314. Officers: Nigel J. McCallum, Vice President

Ocean Freight Forwarders—Ocean Transportation Intermediary Applicants

Candice K. Blankenship, 1025 Wynngate Drive, Chesapeake, VA 23320, Sole Proprietor

NTD Shipping, Inc., 12110 Oak Park Drive, Houston, TX 77070. Officers: Casie McCorquodale, President (Qualifying Individual), Diana Atchison, Secretary

Nasser Massry d/b/a Maromax Industries, 417 Pisgah Church Road, Greensboro, NC 27455. Nasser Massry, Owner (Qualifying Individual)

Worldwide Express, Inc., 20200 First Avenue, Middleburg Heights, OH 44130. Officers: Serop S. Demirjian, President (Qualifying Individual), Lousie Demirjian, Vice President

Dated: March 10, 2000.
Bryant L. VanBrakle,
Secretary.

[FR Doc. 00-6418 Filed 3-14-00; 8:45 am]

BILLING CODE 6730-01-P